DEPARTMENT OF THE TREASURY

United States Mint

Establish Price for 2021 United States Mint Silver Numismatic Products

AGENCY: United States Mint, Department of the Treasury.

ACTION: Notice.

SUMMARY: The United States Mint is announcing pricing for United States Mint numismatic products in accordance with the table below:

Product | Retail price
2021 Morgan Dollar | $85.00
2021 Peace Dollar | 85.00

FOR FURTHER INFORMATION CONTACT: Derrick Griffin; United States Mint; 801 9th Street NW; Washington, DC 20220; or call (202) 354-7579.

Authority: Public Law 116-286.

Eric Anderson,
Executive Secretary, United States Mint.

[FR Doc. 2021-09195 Filed 5-3-21; 8:45 am]

BILLING CODE P